DEPARTMENT OF THE INTERIOR

Bureau of Land Management

[NM-210-1430-ES; NMNM 118070]

Notice of Realty Action—Recreation and Public Purpose (R&PP) Act Classification, New Mexico

AGENCY: Bureau of Land Management, Interior.

ACTION: Notice of R&PP lease and or patent of public land in San Juan County; New Mexico.

SUMMARY: The following described public land is determined suitable for classification for leasing and subsequent conveyance to City of Farmington for the Farmington Regional Animal Shelter, under the provisions of the Recreation and Public Purposes (R&PP) Act, as amended, 43 U.S.C. 869 et seq., and under Sec. 7 of the Taylor Grazing Act, 43 U.S.C. 315(f), and Executive Order No. 6910.

New Mexico Principal Meridian

T. 29 N., R. 12 W.,

Sec. 18: SW¼SW¼NE¼.

The area described contains 10 acres more or less.

Comment Dates: Submit comments on or before October 10, 2008. Interested parties may submit comments regarding the proposed leasing/conveyance or classification of the lands to the Bureau of Land Management at the following address. Any adverse comments will be reviewed by the Bureau of Land Management, Farmington District Manager, 1235 La Plata Highway, Farmington, NM 87401, who may sustain, vacate, or modify this realty action. In the absence of any adverse comments, this realty action becomes the final determination of the Department of the Interior.

FURTHER INFORMATION: Contact Mary Jo Albin, Realty Specialist, at the Bureau of Land Management, Farmington Field Office, at (505) 599-6332. Information related to this action, including the environmental assessment, is available for review at 1235 La Plata Highway,Farmington, NM 87401.

SUPPLEMENTARY INFORMATION: Publication of this notice segregates the public land described above from all other forms of appropriation under the public land laws, including the general mining laws, except for leasing and conveyance under the Recreation and Public Purposes Act and leasing under the mineral leasing laws.

The lease, when issued, will be subject to the following terms:

1. The Recreation and Public Purposes Act and to all applicable regulations of the Secretary of the Interior.

2. The Resource Conservation and Recovery Act of 1976 (RCRA) as amended, 42 U.S.C. 6901-6987 and the Comprehensive Environmental Response, Compensation and Liability Act of 1980 (CERCLA) as amended, 42 U.S.C. 9601 and all applicable regulations.

3. Provisions of Title VI of the Civil Rights Act of 1964.

4. Provisions that the lease be operated in compliance with the approved Development Plan.

The patent document, when issued, will be subject to the provisions of the R&PP Act and applicable regulations of the Secretary of the Interior and will contain the following terms, conditions, and reservations to the United States:

1. A right-of-way thereon for ditches or canals constructed by the authority of the United States, Act of August 30, 1890 (43 U.S.C. 945).

2. All minerals, together with the right to prospect for, mine, and remove such deposits from the lands under applicable law and such regulations as the Secretary of the Interior may prescribe.

3. All valid existing rights, e.g., rights-of-way and leases of record.

Provisions that if the patentee or its successor attempts to transfer title to or control over the land to another or the land is devoted to a use other than that for which the land was conveyed, without the consent of the Secretary of the Interior or his delegate, or prohibits or restricts, directly or indirectly, or permits it agents, employees, contractors, or subcontractors, including without limitation, lessees, sublessees and permittees, to prohibit or restrict, directly or indirectly, the use of any part of the patented lands or any of the facilities whereon by any person because of such person's race, creed, sex, color, or national origin, title shall revert to the United States.

The lands are not needed for Federal purposes. Leasing and later patenting is consistent with current Bureau of Land Management policies and land use planning. The proposal serves the public interest since it would provide the animal shelter building with attached outdoor kennels, an employee's courtyard and a public “get acquainted” courtyard and any other facilities and related buildings that would meet the needs of the animal shelter. Associated parking would be constructed for the clinic building.

Upon publication of this notice in the Federal Register, the above described public lands will be segregated from all other forms of appropriation under the public land laws, including the general mining laws, except for patent under the R&PP Act and leasing under the mineral leasing laws.

Classification Comments: Interested parties may submit comments involving the suitability of the land for conveyance. Comments on the classification are restricted to whether the land is physically suited for the proposal, whether the use will maximize the future uses of the land, whether the use is consistent with local planning and zoning, or if the use is consistent with state and Federal programs.

Conveyance Comments: Interested parties may submit comments regarding the patent and the specific use proposed in the application and plan of development, whether the BLM followed proper administrative procedures in reaching the decision, or any other factor not directly related to the suitability of the land for R&PP use.

Confidentiality of Comments: Before including your address, phone number, e-mail address, or other personal identifying information in your comment, you should be aware that your entire comment—including your personal identifying information—may be made publicly available at any time. While you can ask in your comment to withhold your personal identifying information from public review, we cannot guarantee that we will be able to do so.

Any adverse comments will be reviewed by the Farmington Field Manager, who may sustain, vacate, or modify this realty action. In the absence of any adverse comments, the classification of the land described in this notice will become effective on October 27, 2008. The land will not be offered for patent until after the classification becomes effective.

(Authority: 43 CFR 2741.5)

Dated: August 18, 2008.
Joel Farrell,
Assistant Field Manager for Resources.

[FR Doc. E8-19678 Filed 8-25-08; 8:45 am]

BILLING CODE 4310-VB-P